DEPARTMENT OF THE TREASURY

Internal Revenue Service

26 CFR Part 602

OMB Control Numbers Under the Paperwork Reduction Act

CFR Correction

In Title 26 of the Code of Federal Regulations, Part 600 to End, revised as of April 1, 2008, on page 145, in § 602.101, in the table in paragraph (b), add the entry “1545-1511” to the second column for § 1.468A-7T and remove the entry “1.545-1511,” from the first column following § 1.468A-3T(h).

[FR Doc. E9-6943 Filed 3-26-09; 8:45 am]

BILLING CODE 1505-01-D